DEPARTMENT OF THE INTERIOR

Bureau of Land Management

[18X.LLAZ956000.L14400000.BJ0000.LXSSA225000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona, 85004-4427. Protests of the survey should be sent to the Arizona State Director at the above address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The plat, in one sheet, representing the dependent resurvey of a portion of the east boundary of the Fort McDowell Indian Reservation, Homestead Entry Survey No. 413, and a portion of the subdivisional lines, and the subdivision of section 27, and a metes-and-bounds survey of lot 13, section 27, Township 4 North, Range 7 East, accepted November 29, 2017, and officially filed December 1, 2017, for Group 1172, Arizona.

This plat was prepared at the request of the United States Forest Service.

The plat, in one sheet, representing the dependent resurvey of a portion of the Fourth Guide Meridian East (west boundary), the south and north boundaries, and the subdivisional lines, and the subdivision of certain sections, Township 23 North, Range 17 East, accepted September 13, 2017, and officially filed September 14, 2017, for Group 1164, Arizona.

This plat was prepared at the request of the Bureau of Indian Affairs.

The plat, in one sheet, representing the dependent resurvey of a portion of the Fifth Standard Parallel North (south boundary), the independent resurvey of a portion of the Fifth Guide Meridian East (west boundary), the east boundary, and the subdivisional lines, and the subdivision of certain sections, Township 21 North, Range 21 East, accepted August 16, 2017, and officially filed August 17, 2017, for Group 1158, Arizona.

This plat was prepared at the request of the Bureau of Indian Affairs.

The plat, in one sheet, representing the dependent resurvey of a portion of the north boundary of the Tohono O'odham Nation Reservation (a portion of the south boundary), partially surveyed Township 7 South, Range 3 East, accepted November 29, 2017, and officially filed December 1, 2017, for Group 1165, Arizona.

This plat was prepared at the request of the Bureau of Indian Affairs.

The plat, in one sheet, representing the dependent resurvey of a portion of the north boundary of the Tohono O'odham Nation Reservation (south township boundary), Township 7 South, Range 4 East, accepted November 29, 2017, and officially filed December 1, 2017, for Group 1165, Arizona.

This plat was prepared at the request of the Bureau of Indian Affairs.

The plat, in one sheet, representing the dependent resurvey of a portion of the north boundary of the Tohono O'odham Nation Reservation [portions of the First Guide Meridian East (west boundary), the east boundary and the subdivisional lines], Township 7 South, Range 5 East, accepted November 29, 2017, and officially filed December 1, 2017, for Group 1165, Arizona.

This plat was prepared at the request of the Bureau of Indian Affairs.

The plat, in one sheet, representing the dependent resurvey of a portion of the north boundary of the Tohono O'odham Nation Reservation (a portion of the south boundary), Township 7 South, Range 6 East, accepted November 29, 2017, and officially filed December 1, 2017, for Group 1165, Arizona.

This plat was prepared at the request of the Bureau of Indian Affairs.

The plat, in two sheets, representing the the dependent resurvey of a portion of the east boundary of Township 5 South, Range 22 West, and portions of metes-and-bounds surveys, Township 5 South, Range 21 and 22 West, accepted October 13, 2017, and officially filed October 16, 2017, for Group 1175, Arizona.

This plat was prepared at the request of the Marine Corps Air Station Yuma.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2017-27775 Filed 12-22-17; 8:45 am]

BILLING CODE 4310-32-P